DEPARTMENT OF THE INTERIOR

Minerals Management Service

[Docket No. MMS-2007-OMM-0072]

MMS Information Collection Activity: 1010-NEW Lease of Submerged Lands for Alternative Energy Activities on the Outer Continental Shelf (OCS); New Collection; Submitted for Office of Management and Budget (OMB) Review; Comment Request

AGENCY: Minerals Management Service (MMS), Interior.

ACTION: Notice of a new information collection (1010-NEW) and request for comments.

SUMMARY: To comply with the Paperwork Reduction Act of 1995 (PRA), we are notifying the public that we have submitted to the Office of Management and Budget (OMB) an information collection request (ICR) for a new approval of the paperwork requirements in new Form MMS-0001, Lease of Submerged Lands for Alternative Energy Activities on the Outer Continental Shelf (OCS), which is printed within this Federal Register notice. This new form is the instrument that MMS will use to issue a lease on the OCS to conduct data collection and/or technology testing. This notice also provides the public a second opportunity to comment on the paperwork burdens associated with the lease form.

DATES: Submit written comments by May 21, 2008.

ADDRESSES: You may submit comments by any of the following methods listed below.

• By fax (202) 395-6566 or e-mail (OIRA_DOCKET@omb.eop.gov) directly to the Office of Information and Regulatory Affairs, OMB, Attention: Desk Officer for the Department of the Interior (1010-NEW). Please also send a copy to MMS.

• Electronically: Go to http://www.regulations.gov. Under the tab “More Search Options,” click “Advanced Docket Search”, then select “Minerals Management Service” from the agency drop-down menu, then click “submit.” In the Docket ID column, select MMS-2007-OMM-0072 to submit public comments and to view available supporting and related materials. Information on using Regulations.gov, including instructions for accessing documents, submitting comments, and viewing the docket after the close of the comment period, is available through the site's “User Tips” link. All comments submitted will be published and posted to the docket after the closing period.

• Mail or hand-carry comments to the Department of the Interior; Minerals Management Service; Attention: Cheryl Blundon, 381 Elden Street, MS-4024, Herndon, Virginia 20170-4817. Please reference “Information Collection 1010-NEW” in your comment and include your name and return address.

FOR FURTHER INFORMATION CONTACT: Cheryl Blundon, Regulations and Standards Branch at (703) 787-1607. You may also contact Cheryl Blundon to obtain a copy, at no cost, of Section 388 of the Energy Policy Act. You may contact Maureen A. Bornholdt, Program Manager, Alternative Energy Programs at (703) 787-1300 for lease questions.

SUPPLEMENTARY INFORMATION: Title: Lease of Submerged Lands for Alternative Energy Activities on the OCS.

Form(s): MMS-0001.

OMB Control Number: 1010-NEW.

Abstract: Section 388 of the Energy Policy Act of 2005 amended the OCS Lands Act to add a new paragraph (p) to section 8 of the Act (43 U.S.C. 1337(p)) to allow the Department of the Interior, acting through the Minerals Management Service (MMS), to grant a lease, easement, or right-of-way on the OCS for activities that produce or support the production of energy from sources other than oil and gas. MMS has established an Alternative Energy and Alternate Use Program to authorize and regulate OCS activities pursuant to this new authority. MMS is in the process of developing proposed regulations that, once finalized, will set the framework for issuing leases, easements and rights-of-way and authorizing OCS alternative energy activities. On November 6, 2007, MMS announced an interim policy that allows the issuance of leases, under this statutory authority, for activities limited to alternative energy resource data collection and technology testing. The interim policy does not allow the issuance of leases for commercial production of alternative energy, such as the full build-out of commercial wind farms.

On December 14, 2007, we published a Federal Register notice (72 FR 71152) announcing a new lease form and new information collection requirements. This new lease form is the instrument for limited-term leases issued under MMS' interim policy. The new information collection requirements are needed by MMS in order to authorize activities and convey rights through limited-term leases to conduct data collection and/or technology testing activities on specific areas of the OCS.

This information collection request (ICR) addresses the form and accompanying information. The new lease form will be used by MMS and the emerging alternative energy industry as an instrument specifying the parties' rights and responsibilities under the lease.

We will protect information from respondents considered proprietary under the Freedom of Information Act (5 U.S.C. 552) and its implementing regulations (43 CFR part 2). No items of a sensitive nature are collected. Responses are required to obtain or retain benefits or mandatory.

Frequency: On occasion.

Estimated Number and Description of Respondents: Approximately 18-25 (alternative energy) respondents.

Estimated Reporting and Recordkeeping “Hour” Burden: The estimated annual “hour” burden for this information collection is a total of 3,560 hours. The total estimated annual “hour” burden decreased from the estimate in the 60-day Federal Register notice (72 FR 71152), published on December 14, 2007, because of the re-estimation of the number of submissions, as well as the deletion of two requirements that, under closer inspection, were not subject to the PRA. Therefore, the following chart details the current individual components and estimated hour burdens. In calculating the burdens, we assumed that respondents perform certain requirements in the normal course of their activities. We consider these to be usual and customary and took that into account in estimating the burden.

Form MMS-0001 sections | Reporting and/or recordkeeping requirement | Hour burden | Average No. of annual responses | Annual burden hour
MMS-0001; Section 1 | Fill out and submit form MMS-0001, Lease Agreement, for consideration; execute lease | 1 | 13 | 13
1; 9 | Prepare and submit findings of initial survey activities (e.g., geotechnical, geophysical, shallow hazard) | 100 | 13 | 1,300
2; 20 | Designate operator when more than one lessee; report change of address | 1 | 7 | 7
4 | Request extension of lease term and supporting documentation | 2 | 1 | 2
7 | Notify MMS 72 hrs prior to commencement/termination of lease; Notify MMS when facility is back in service after being out of service for more than 7 days | 15 mins for each requirement × 2 = 30 mins | 13 | 7 (rounded)
8; 9 | Submit plan/modification and supporting documentation | 100 | 13 | 1,300
8(d) | Request for reconsideration of modification. (Exempt as defined in 5 CFR 1320.3(h)(9)) | 1 | 1 | 1
10 | Submit quarterly progress reports | 4 | 104 (26 leases × 4 progress rpts per/year) | 416
10 | Upon request, make available all material used by lessee to interpret data | 3 | 10 | 30
10 | Submit final progress report upon conclusion of activities or termination of lease; retain all data of the lease term plus 3 years | 4 | 4 | 16
11 | Lessee and relevant third-parties agree to confidential disclosure | 1 | 13 | 13
12 | Allow access and make records available as requested by MMS inspectors; incorporate same requirement in any contract between lessee and third parties | 2 | 26 | 52
14; 15 | Demonstrate financial worth/ability to carry out present and future financial obligations; submit bond/additional security information | 4 | 15 | 60
16 | Request assignment or transfer of lease | 30 mins | 5 | 3 (rounded)
17 | Submit written relinquishment request | 1 | 3 | 3
18 | Submit report detailing that lessee properly removed structures and restored the area | 10 | 3 | 30
19 | Incorporate nonprocurement debarment and suspension regulations in contracts and transactions | 10 mins | 40 | 7 (rounded)
1-20 | General departure and alternative compliance requests not specifically covered elsewhere in this form | 10 | 10 | 100
Exhibit(s) | Compliance with individual stipulations on a case-by-case basis | 5 | 40 | 200
Total Burdens | 334 Responses | 3,560 Hours

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on December 14, 2007, we published a Federal Register notice (72 FR 71152) announcing that we would submit this ICR to OMB for approval. The notice provided the required 60-day comment period. The Paperwork Reduction Act (5 U.S.C. 1320) also informs the public that they may comment at any time on a collection of information. We received 10 comments, one of which was intended for a different Federal Register notice and irrelevant to this action. The other nine comments were considered, and where relevant and constructive, we made changes to the lease form. The majority of the comments were on MMS strategy and policies. After consideration of such comments, MMS has determined that changes are not needed in its strategy and policies. The respondents who submitted comments were: American Wind Energy Association (AWEA); Bluewater Wind; California Coastal Commission; Florida Power & Light Company; National Hydropower Association; Ocean Renewable Energy Coalition; Pacific Gas and Electric Company; Southern Company; Oregon Coastal Management Program; and Winergy Power, LLC.

If you wish to comment in response to this notice, you may send your comments to the offices listed under the ADDRESSES section of this notice. Although the OMB may take up to 60 days to approve or disapprove the information collection, it may make its decision in as few as 30 days. Therefore, to ensure maximum consideration, OMB should receive public comments by May 21, 2008.

Public Availability of Comments: Before including your address, phone number, e-mail address, or other personal identifying information in your comment, you should be aware that your entire comment—including your personal identifying information—may be made publicly available at any time. While you can ask us in your comment to withhold your personal identifying information from public review, we cannot guarantee that we will be able to do so.

We are incorporating the lease form and the exhibit B versions (Technology testing and demonstration activities—Wave and/or current resources; Data collection activities —Wave and/or current resources; and Data collection activities—Wind resources) into this notice so respondents will be able to give MMS their specific comments on the paperwork burdens associated with the lease form. (Please note that exhibit A is not included here because it merely identifies the area of the lease provided by MMS to the respondent.)

Dated: March 26, 2008.
Randall B. Luthi,
Director, Minerals Management Service.

[FR Doc. E8-8391 Filed 4-18-08; 8:45 am]

BILLING CODE 4310-MR-P